DEPARTMENT OF TRANSPORTATION

Federal Motor Carrier Safety Administration

49 CFR Parts 350, 390, 394, 395 and 398

[Docket No. FMCSA-97-2350]

RIN 2126-AA23

Additional Public Hearing for Hours of Service of Drivers; Driver Rest and Sleep for Safe Operations

AGENCY: Federal Motor Carrier Safety Administration (FMCSA), DOT.

ACTION: Proposed rule; notice of hearing.

SUMMARY: The FMCSA is announcing two more days of hearings for additional interested persons to speak with FMCSA officials about the agency's proposed hours-of-service regulations (65 FR 25540, May 2, 2000). This action is necessary to inform the public about the dates, times, and location of the hearing. The FMCSA continues to hope to hear from the public about how the proposed hours-of-service regulations would improve highway safety and affect drivers' professional, personal and family lives. All oral presentations will be transcribed and placed in the public docket.

DATES: Additional hearings will be held on July 6 and 7, 2000, 8:30 a.m. to 4:30 p.m. in Washington, DC.

FOR FURTHER INFORMATION CONTACT: General Information. To request time to be heard and for other general information about the session, contact Mr. Stanley Hamilton, Office of Regulatory Development, (202) 366-0665. Specific Information. For information concerning the rulemaking, contact Mr. David Miller, Office of Bus and Truck Standards, (202) 366-1790, or Mr. Charles Medalen, Office of the Chief Counsel, Federal Highway Administration, (202) 366-1354. Office hours are from 7:45 a.m. to 4:15 p.m, et, Monday through Friday, except Federal holidays.

SUPPLEMENTARY INFORMATION:

Electronic Access

Internet users may access all comments received by the U.S. DOT Dockets, Room PL-401, by using the universal resource locator (URL): http://dms.dot.gov. It is available 24 hours each day, 365 days a year. Please follow the instructions online for more information and help.

An electronic copy of this document may be downloaded by using a computer, modem and suitable communications software from the Government Printing Office's Electronic Bulletin Board Service at (202) 512-1661. Internet users may reach the Office of the Federal Register's web page at http://www.access.gpo.gov./nara. Internet users may also find this document at the FMCSA's Motor Carrier Regulatory Information Service (MCREGIS) web site for notices at http://www.fmcsa.dot.gov/rulesregs/fmcsr/rulemakings.htm.

Background

The earlier hearings, each of two days' duration, took place between May 31 and June 30 in Washington, DC; Ontario, CA; Golden, CO; Kansas City, MO; Indianapolis, IN; Vernon, CT; and Jackson, GA.

The additional hearing will be held Thursday and Friday, July 6 and 7, 2000, from 8:30 a.m. to 4:30 p.m. in Room 4200 of the DOT headquarters building, 400 Seventh Street, SW., Washington, DC 20590. Speakers must limit their oral presentations to not more than 10 minutes duration. Presenters may submit additional written documentation to be placed in the public docket.

All persons who would like to participate must request to do so by telephoning Mr. Stanley Hamilton at (202) 366-0665 by 4 p.m., et., on Friday, July 7, 2000.

All persons participating will be subject to Federal and DOT workplace security measures. All persons will need identification with a picture on it and must display the identification to DOT security officers. All persons will be required to sign in at the guard desk and walk through metal detectors. All visitors will be required to wear a “Visitor” badge at all times while in the DOT building.

The DOT security office will limit and monitor the public's access and movement through the DOT building. All persons requesting to participate in the sessions, but failing to satisfy DOT security requirements, will be denied entry into the building and will forfeit the opportunity to participate. Such persons will be allowed to submit written comments to the docket, at the above address, by the close of business on July 31, 2000.

Authority: 49 U.S.C. 504, 14122, 31133, 31136, and 31502; sec. 113, Pub. L. 103-311, 108 Stat. 1673, 1676; and 49 CFR 1.73.

Issued on: June 1, 2000.
Julie Anna Cirillo,
Acting Assistant Administrator.

[FR Doc. 00-14691 Filed 6-9-00; 8:45 am]

BILLING CODE 4910-22-P